DEPARTMENT OF HOMELAND SECURITY

Federal Emergency Management Agency

44 CFR Part 67

[Docket No. FEMA-P-7669]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4

2. The tables published under the authority of § 67.4 are proposed to be amended as follows:

Source of flooding and location of referenced elevation | ◆Elevation in feet (NGVD) *Elevation in feet (NGVD): Existing | ◆Elevation in feet (NGVD) *Elevation in feet (NGVD): Modified | Communities affected
Cobb Creek:
At the confluence with Florida Creek | None | ◆1,099 | Lac Qui Parle (Unincorporated Areas).
Approximately 7,850 feet upstream of County Road 50 | None | ◆1,237
County Ditch No. 5:
At the confluence with West Branch Lac Qui Parle River | None | ◆1,096 | Lac Qui Parle (Unincorporated Areas).
At the western county boundary | None | ◆1,140
Florida Creek:
At the confluence with West Branch Lac Qui Parle River | None | ◆1,094 | Lac Qui Parle (Unincorporated Areas).
Approximately 2,300 feet upstream of the southern county boundary | None | ◆1,181 |
Florida Creek Tributary:
At the confluence with Florida Creek | None | ◆1,137 | Lac Qui Parle (Unincorporated Areas).
At the southern county boundary | None | ◆1,208
Judicial Ditch No. 4:
At the confluence with West Branch Lac Qui Parle River | ◆1,044 | ◆1,045 | City of Dawson, Lac Qui Parle (Unincorporated Areas).
Just upstream of Ninth Street | ◆1,044 | ◆1,045
Lac Qui Parle River:
Approximately 350 feet downstream of County Road 20 | None | ◆ 963 | City of Dawson, Lac Qui Parle (Unincorporated Areas).
At the southern county boundary | None | ◆1,093
Lazarus Creek:
Approximately 9,660 feet downstream of U.S. Interstate 75 | None | ◆1,105 | Lac Qui Parle (Unincorporated Areas).
Approximately 12,100 feet upstream of County Road 52 (2nd crossing) | None | ◆1,135
Lost Creek:
At the confluence with West Branch Lac Qui Parle River | None | ◆1,111 | Lac Qui Parle (Unincorporated Areas).
At the western county boundary | None | ◆1,193
Minnesota River:
Approximately 7.4 miles downstream of County Road 18 | None | ◆ 934 | Lac Qui Parle (Unincorporated Areas).
Approximately 6.9 miles upstream of County Road 15 | None | ◆ 962
Minnesota River Tailwaters:
At the confluence with Minnesota River | None | ◆ 949 | Lac Qui Parle (Unincorporated Areas).
Approximately 430 feet upstream of U.S. Interstate 75 | None | ◆ 950
North Fork Yellow Bank River:
At the confluence with Main Fork Yellow Bank River | None | ◆1,002 | Lac Qui Parle (Unincorporated Areas).
At the western county boundary | None | ◆1,036
Tenmile Creek:
Approximately 1,800 feet downstream of County Road 2 | None | ◆1,046 | City of Boyd, Lac Qui Parle (Unincorporated Areas).
Tenmile Creek:
Approximately 9,100 feet upstream of County Road 29 | None | ◆1,056 | City of Boyd, Lac Qui Parle (Unincorporated Areas).
Tributary to South Fork Yellow Bank River:
At the confluence with South Fork Yellow Bank River | None | ◆1,089 | City of Nassau, Lac Qui parle (Unincorporated Areas).
At the western county boundary | None | ◆1,113
West Branch Lac Qui Parle River:
At the confluence with Lac Qui Parle River | ◆1,043 | ◆1,041 | City of Dawson, Lac Qui Parle (Unincorporated Areas).
Just upstream of County Road 7 | None | ◆1,192
Yellow Bank River (Main and South Forks):
Approximately 100 feet downstream of County Road 40 | None | ◆971 | Lac Qui Parle (Unincorporated Areas).
Approximately 14,450 feet upstream of County Road 7 | None | ◆1,123
City of Boyd:
Maps are available for inspection at City Hall, 117 Third Street, Boyd, Minnesota.
Send comments to The Honorable Vern Lein, Mayor, City of Boyd, City Hall, 117 Third Street, Boyd, Minnesota 56218.
City of Dawson:
Maps are available for inspection at City Hall, 675 Chestnut Street, Dawson, Minnesota.
Send comments to The Honorable Glenn Dunham, Mayor, City of Dawson, City Hall, 675 Chestnut Street, Dawson, Minnesota 56232.
City of Nassau:
Maps are available for inspection at City Hall, 229 Fifth Street, Nassau, Minnesota.
Send comments to The Honorable Linda Wildung, Mayor, City of Nassau, City Hall, 229 Fifth Street, Nassau, Minnesota 56257.
Lac Qui Parle County (Unincorporated Areas):
Maps are available for inspection at Lac Qui Parle County Courthouse, 600 West Sixth Street, Madison, Minnesota.
Send comments to The Honorable Vonderharr, Chairperson, County Commissioners, County Courthouse, 600 West Sixth Street, Madison, Minnesota 56256.
Artichoke Creek:
Approximately 2,500 feet downstream of 225th Avenue Northwest | None | *1,072 | Swift County (Unincorporated Areas).
Just upstream of 260th Avenue Northwest | None | *1,085
Chippewa River:
Just downstream of County Road 75 | None | *1,028 | City of Benson, Swift County (Unincorporated Areas).
At the confluence of East Branch, Chippewa River | None | *1,036
Cottonwood Creek:
Approximately 8,170 feet downstream of County Road 2 | None | *991 | City of Holloway, Swift County (Unincorporated Areas).
Approximately 4,600 feet upstream of County Road 9 | None | *1,020
County Ditch No. 2:
At County Route 54 | None | *1,006 | Swift County (Unincorporated Areas).
County Ditch No. 2:
Approximately 1,250 feet upstream of County Route 54 | None | *1,006 | Swift County (Unincorporated Areas).
East Branch Chippewa River:
At the confluence with the Chippewa River | None | *1,036 | City of Benson Swift County (Unincorporated Areas).
Just downstream of State Road 29 | None | *1,036
Judicial Ditch No. 19:
Approximately 18,250 feet upstream of the confluence with East Branch Chippewa River | None | *1,040 | Swift County (Unincorporated Areas).
Approximately 39,350 feet upstream of the confluence with East Branch Chippewa River | None | *1,049
Lake Malachy Outlet:
Approximately 320 feet above confluence with Lake Malachy | None | *1,035 | City of Clontarf Swift County (Unincorporated Areas).
Approximately 100 feet upstream of Grace Avenue | None | *1,043
Minnesota River:
At Marsh Lake Dam | *946 | *948 | Swift County (Unincorporated Areas).
Approximately 4,750 feet upstream of March Lake Dam | *946 | *948
Pomme De Terre River:
Approximately 11,700 feet downstream of the Union Pacific Railroad | *972 | *975 | City of Appleton Swift County (Unincorporated Areas).
Pomme De Terre River:
Approximately 15,800 feet upstream of North Herrington Road | None | *1,008 | City of Appleton Swift County (Unincorporated Areas).
City of Appleton:
Maps are available for inspection at the City Office, 323 West Schlieman Avenue, Appleton, Minnesota.
Send comments to The Honorable William Fliflet, Mayor, City of Appleton, 323 West Schlieman Avenue, Appleton, Minnesota 56208.
City of Benson:
Maps are available for inspection at City Hall, 1410 Kansas Avenue, Benson, Minnesota.
Send comments to The Honorable Paul Kittleson, Mayor, City of Benson, 1410 Kansas Avenue, Benson, Minnesota 56215.
City of Clontarf:
Maps are available for inspection at City Hall, 221 Clonmel Street, Clontarf, Minnesota.
Send comments to The Honorable Tom Staton, Mayor, City of Clontarf, 221 Clonmel Street, Clontarf, Minnesota 56226.
City of Holloway:
Maps are available for inspection at City Hall, 220 DePue Street, Holloway, Minnesota.
Send comments to The Honorable Merlin Schultz, Mayor, City of Holloway, 220 DePue Street, Holloway, Minnesota 56249.
Swift County (Unincorporated Areas):
Maps are available for inspection at 301 14th Street North, Benson, Minnesota.
Send comments to The Honorable Gary Hendrickx, Chairman, Swift County Board of Commissioners, 222 North Miles Street, Appleton, Minnesota 56208.
Florida Creek:
At the northern county boundary | None | ◆1,175 | Yellow Medicine (Unincorporated Areas).
Approximately 50 feet upstream of County Road 14 | None | ◆1,238 |
Florida Creek Tributary:
Approximately 25 feet downstream of the northern county boundary | None | ◆1,209 | Yellow Medicine (Unincorporated Areas).
Approximately 6,100 feet upstream of County Road 14 | None | ◆1,244 |
Lac Qui Parle River:
At the northern county boundary | None | ◆1,093 | Yellow Medicine (Unincorporated Areas).
Approximately 6,750 feet upstream of State Highway 68 | None | ◆1,241 |
Lazarus Creek:
At confluence with Lac Qui Parle River | None | ◆1,095 | Yellow Medicine (Unincorporated Areas).
Approximately 6,270 feet upstream of County Road E2 | None | ◆1,258 |
Minnesota River:
Approximately 31,200 feet downstream of State Highway 67 | ◆873 | ◆877 | Yellow Medicine (Unincorporated Areas) Granite Falls.
Approximately 1,580 feet upstream of U.S. Highway 59/212 | ◆932 | ◆934 | Upper Sioux Community.
Minnesota River Overflow Channel:
At the confluence with the Minnesota River | ◆894 | ◆896 | Yellow Medicine (Unincorporated Areas) Granite Falls.
Minnesota River Overflow Channel:
Approximately 890 feet upstream the confluence with the Minnesota River | ◆898 | ◆899 | Yellow Medicine (Unincorporated Areas) Granite Falls.
Tenmile Creek:
Approximately 113,370 feet upstream of the confluence with Lac Qui Parle River | None | ◆1,056 | Yellow Medicine (Unincorporated Areas).
Approximately 117,250 feet upstream of the confluence with Lac Qui Parle River | None | ◆1,056 |
Yellow Medicine River:
Approximately 36,700 feet downstream of County Road 8 | None | ◆1,058 | Yellow Medicine (Unincorporated Areas).
Approximately 3,400 feet upstream of the southern county boundary | None | ◆1,100
City of Granite Falls:
Maps are available for inspection at City Hall, 885 Prentice Street, Granite Falls, Minnesota.
Send comments to The Honorable David Smiglewski, Mayor, City of Granite Falls, 885 Prentice Street, Granite Falls, Minnesota 56241.
Upper Sioux Community:
Maps are available for inspection at Office of the Tribal Council Secretary/FDPO Administrator, Upper Sioux Community Board of Trustees, Granite Falls, Minnesota.
Send comments to Helen M. Blue-Redner, Tribal Chairman, Upper Sioux Community Board of Trustees, P.O. Box 147, Granite Falls, Minnesota 56241.
Yellow Medicine County:
Maps are available for inspection at the Planning and Zoning Office, 1000 10th Avenue, Clarkfield, Minnesota.
Send comments to The Honorable John Chattin, County Administrator, County Administrator's Office, 415 9th Avenue, Granite Falls, Minnesota 56241.

(Catalog of Federal Domestic Assistance No. 83.100, “Flood Insurance”)
Dated: January 28, 2005.
David I. Maurstad,
Acting Director, Mitigation Division, Emergency Preparedness and Response Directorate.

[FR Doc. 05-2118 Filed 2-3-05; 8:45 am]

BILLING CODE 9110-12-P